INTERNATIONAL TRADE COMMISSION

[Investigation No. 337-TA-1120 (Rescission)]

Certain Human Milk Oligosaccharides and Methods of Producing the Same; Notice of Commission Decision To Institute a Rescission Proceeding and To Rescind the Limited Exclusion Order; Termination of the Rescission Proceeding

AGENCY: U.S. International Trade Commission.

ACTION: Notice.

SUMMARY: Notice is hereby given that the U.S. International Trade Commission (“the Commission”) has determined to institute a rescission proceeding and to rescind the limited exclusion order issued in the underlying investigation. The rescission proceeding is terminated.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on June 21, 2018, based on a complaint filed by Glycosyn LLC of Waltham, Massachusetts (“Complainant”). See 83 FR 28865-66 (June 21, 2018). The complaint, as amended and supplemented, alleged violations of section 337 the Tariff Act, as amended, 19 U.S.C. 1337 (“section 337”) based upon the importation into the United States, the sale for importation, and the sale within the United States after importation of certain human milk oligosaccharides and methods of producing the same, by reason of infringement of certain claims of U.S. Patent Nos. 9,453,230 (“the '230 patent”) and 9,970,018 (“the '018 patent”). The notice of investigation named as respondent in this investigation: Jennewein Biotechnologie GmbH of Rheinbreitbach, Germany, now Chr. Hansen HMO GmbH (“Respondent”). See id. The Office of Unfair Import Investigations was also a party to the investigation. See id.

The Commission previously terminated the '230 patent in its entirety and certain claims of the '018 patent. See Order No. 5 (Aug. 9, 2018), unreviewed by Comm'n Notice (Aug. 29, 2018); Order No. 15 (Oct. 30, 2018), unreviewed by Comm'n Notice (Nov. 29, 2018); Order No. 17 (Nov. 19, 2018), unreviewed by Comm'n Notice (Dec. 12, 2018); Order No. 25 (Feb. 8, 2019), unreviewed by Comm'n Notice (Feb. 28, 2019).

On May 19, 2020, the Commission issued a final determination finding a violation of section 337 based on patent infringement of certain claims of the '018 patent with respect to certain bacterial strains. The Commission issued a limited exclusion order barring the unlicensed entry of certain human milk oligosaccharides that are imported by or on behalf of Respondent and that are produced with the infringing strains. On September 17, 2021, the United States Court of Appeals for the Federal Circuit affirmed the Commission's final determination. See Jennewein Biotechnologie GmbH v. ITC, No. 20-2220, 2021 WL 4250784 (Fed. Cir. Sept. 17, 2021) (unpublished).

On June 6, 2025, Complainant filed an unopposed petition to rescind the limited exclusion order based on a settlement agreement between Complainant and Respondent. No response to the petition was received.

As stated in the Commission Order issued concurrently herewith, the Commission finds that the conditions which led to the issuance of the limited exclusion order no longer exist and, therefore, a rescission of the limited exclusion order is warranted under section 337(k) (19 U.S.C. 1337(k)) and Commission Rule 210.76(a) (19 CFR 210.76(a)). The Commission has thus determined to institute a rescission proceeding and to rescind the limited exclusion order issued in the underlying investigation. The rescission proceeding is terminated.

The Commission's notice and order were delivered to the Secretary of the Treasury on the day of their issuance.

The Commission's vote for this determination took place on July 7, 2025.

The authority for the Commission's determination is contained in section 337 of the Tariff Act of 1930, as amended (19 U.S.C. 1337), and in Part 210 of the Commission's Rules of Practice and Procedure (19 CFR part 210).

By order of the Commission.
Issued: July 7, 2025.
Lisa Barton,
Secretary to the Commission.

[FR Doc. 2025-12792 Filed 7-9-25; 8:45 am]

BILLING CODE 7020-02-P